DEPARTMENT OF ENERGY

Federal Energy Regulatory Commission

[Docket No. EC05-2-000, et al.]

American Electric Power Service Corporation, et al.; Electric Rate and Corporate Filings

January 27, 2005.

The following filings have been made with the Commission. The filings are listed in ascending order within each docket classification.

1. American Electric Power Service Corporation

[Docket No. EC05-2-000]

Take notice that on January 24, 2005, American Electric Power Service Corporation (AEP), on behalf of its affiliate, AEP Texas Central Company (TCC), submitted supplemental information regarding its October 7, 2004 application for authorization of a disposition of jurisdictional facilities.

Comment Date: 5 p.m. eastern time on February 7, 2005.

2. USGen New England, Inc., Town of Rockingham, Vermont, Bellows Falls Power Company, LLC

[Docket No. EC05-41-000]

Take notice that on January 25, 2005, USGen New England, Inc. (USGenNE), the Town of Rockingham, Vermont (Town), and Bellows Falls Power Company, LLC (BFPC) (collectively, Applicants) filed with the Federal Energy Regulatory Commission an application pursuant to section 203 of the Federal Power Act for authorization to permit USGenNE to transfer to the Town jurisdictional facilities associated with USGenNE's approximately 49 MW Bellows Falls hydroelectric generating facility and the lease of those facilities from the Town to BFPC.

Comment Date: 5 p.m. eastern time on February 15, 2005.

3. Idaho Power Company

[Docket No. ER97-1481-007]

Take notice that on January 19, 2005, Idaho Power Company (Idaho Power) submitted its response to the Commission's deficiency letter issued December 20, 2004 requesting additional information regarding Idaho Power's September 27, 2004 filing in Docket No. ER97-1481-004, as amended on October 8, 2004 in ER97-1481-005.

Idaho Power Company states that copies of the filing were served on parties on the official service list in Docket No. ER97-1481.

Comment Date: 5 p.m. eastern time on February 9, 2005.

4. PJM Interconnection, L.L.C.

[Docket No. ER03-1101-007]

Take notice that on January 19, 2005, PJM Interconnection, L.L.C. (PJM), submitted a compliance filing pursuant to the Commission's Order issued December 20, 2004 order in Docket No. ER03-1101-001, et al., 109 FERC ¶ 61,286 (2004). d collateral. PJM requests an effective date of March 1, 2005.

PJM states that copies of this filing have been served on all PJM members and the utility regulatory commissions in the PJM region.

Comment Date: 5 p.m. eastern time on February 9, 2005.

5.Jersey Central Power & Light Company

[Docket No. ER05-64-001]

Take notice that on January 19, 2005, Jersey Central Power & Light Company, a FirstEnergy Company, (Jersey Central) submitted an amendment to its October 22, 2004 filing in Docket No. ER05-64-000, pursuant to the Commission's deficiency letter issued December 20, 2004.

Jersey Central states that copies of the filing have been served on regulators in New Jersey, Atlantic City Electric Company, PJM and FERC Staff.

Comment Date: 5 p.m. eastern time on February 9, 2005.

6.PJM Interconnection, L.L.C.

[Docket No. ER05-85-004]

Take notice that on January 19, 2005, PJM Interconnection, L.L.C. (PJM), and Duquesne Light Company (Duquesne Light), submitted a compliance filing pursuant to the Commission's Order issued December 20, 2004 in Docket No. ER05-85-000, et al., 109 FERC ¶ 61,299.

PJM and Duquesne Light state that copies of this filing were served upon all persons on the service list in Docket No. ER05-85.

Comment Date: 5 p.m. eastern time on February 9, 2004.

7. Kansas City Power & Light Company

[Docket No. ER05-177-004]

Take notice that on January 19, 2005, Kansas City Power & Light Company (KCPL) submitted a compliance filing pursuant to the Commission's order issued December 28, 2004 in Docket No. ER05-177-000. KCPL states that this filing pertains to service schedules for the City of Higginsville, Missouri.

KCPL states that copies of the filing were served upon the City of Higginsville, Missouri as well as the Missouri Public Service Commission and the Kansas State Corporation Commission.

Comment Date: 5 p.m. eastern time on February 9, 2005.

8. Kansas City Power & Light Company

[Docket No. ER05-177-005]

Take notice that on January 19, 2005, Kansas City Power & Light Company (KCPL) submitted a compliance filing pursuant to the Commission's order issued December 28, 2004 in Docket No. ER05-177-000. KCPL states that this filing pertains to service schedules for the City of Garnett, Kansas.

KCPL states that copies of the filing were served upon the City of Garnett, Kansas as well as the Missouri Public Service Commission and the Kansas State Corporation Commission.

Comment Date: 5 p.m. eastern time on February 9, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-406 Filed 2-2-05; 8:45 am]

BILLING CODE 6717-01-P